DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before July 22, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

Dated: June 16, 2009.
Angela C. Arrington,
Director, Information Clearance Collection Division, Regulatory Information Management Services, Office of Management.

Office of Planning, Evaluation and Policy Development

Type of Review: New.

Title: Evaluation of State and Local Implementation of Title III Standards, Assessments, and Accountability Systems.

Frequency: One time.

Affected Public: State, Local, or Tribal Gov't, SEAs or LEAs.

Reporting and Recordkeeping Hour Burden:

Responses: 1,940.

Burden Hours: 1,600.

Abstract: The study will serve to update state-level information about Title III implementation and will also provide an important opportunity to go beyond the mechanics of implementation to answer a series of key evaluation questions that will deepen understanding of the extent to which Title III is achieving its underlying goals. The study has four interrelated objectives: (1) To describe the progress in implementation of Title III provisions, and variation in implementation across states; (2) To examine how localities are implementing their programs for limited English proficient (LEP) students and how these relate to state policies and contexts; (3) To determine how LEP students are faring in the development of their English language proficiency (ELP) and mastery of academic content; and (4) To maintain a focus on the diversity among LEP students—for example, in their concentrations, languages, ages, length of residence in the U.S.—and the educational implications of this diversity. Data will be collected through a thorough review of standards and assessments; a complete set of interviews of state Title III and assessment directors; a nationally representative survey of districts receiving Title III funds; in depth case studies in 5 states, including 2 districts within each state; and analyses of student achievement data. Respondents will include 51 state Title III directors, 1,300 District Title III administrators, 96 other district administrators, 192 elementary and secondary school principals and resource staff, 192 elementary and secondary teachers, and 96 parent liaisons. The study will produce several policy-relevant reports and presentations including briefings, evaluation briefs, fact sheets, reports, and nontechnical executive summaries that will provide policymakers, educators, media, researchers, and the public with a comprehensive view of state and local implementation of Title III across the nation as of 2009-10.

Requests for copies of the information collection submission for OMB review may be accessed from http://edicsweb.ed.gov, by selecting the “Browse Pending Collections” link and by clicking on link number 3992. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-14535 Filed 6-19-09; 8:45 am]

BILLING CODE 4000-01-P